DEPARTMENT OF AGRICULTURE

Animal and Plant Health Inspection Service

[Docket No. APHIS-2010-0028]

Availability of an Environmental Assessment and Finding of No Significant Impact for a Biological Control Agent for Asian Citrus Psyllid

AGENCY: Animal and Plant Health Inspection Service, USDA.

ACTION: Notice.

SUMMARY: We are advising the public that the Animal and Plant Health Inspection Service has prepared an environmental assessment and finding of no significant impact relative to the control of Asian citrus psyllid (Diaphorina citri Kuwayama). The environmental assessment considers the effects of, and alternatives to, the release of an insect, Tamarixia radiata, into the continental United States for use as a biological control agent to reduce the severity of Asian citrus psyllid infestations. Based on our finding of no significant impact, we have determined that an environmental impact statement need not be prepared.

FOR FURTHER INFORMATION CONTACT: Dr. Shirley A. Wager-Page, Chief, Pest Permitting Branch, PPQ, APHIS, 4700 River Road Unit 133, Riverdale, MD 20737-1237; (301) 734-8453.

SUPPLEMENTARY INFORMATION:

Background

The Animal and Plant Health Inspection Service (APHIS) is proposing to issue permits for the release of an insect, Tamarixia radiata, into the continental United States for use as a biological control agent to reduce the severity of Asian citrus psyllid (ACP) infestations.

On May 20, 2010, we published in the Federal Register (75 FR 28233-28234, Docket No. APHIS-2010-0028) a notice ¹ in which we announced the availability, for public review and comment, of an environmental assessment (EA) relative to the control of ACP.

¹ To view the notice, environmental assessment, finding of no significant impact, and the comments we received, go to http://www.regulations.gov/fdmspublic/component/main?main=DocketDetail&d=APHIS-2010-0028.

The EA, titled “Proposed Release of a Parasitoid (Tamarixia radiata Waterston) for the Biological Control of Asian Citrus Psyllid (Diaphorina citri Kuwayama) in the Continental United States” (November 2009), considered the effects of, and alternatives to, the release of Tamarixia radiata into the continental United States for use as a biological control agent to reduce the severity of ACP infestations.

We solicited comments on the EA for 30 days ending on June 21, 2010. We received four comments by that date. All of the commenters were supportive of the proposed action.

Based on the information contained in the EA, we have determined that the environmental release of the insect Tamarixia radiata is not expected to result in a significant impact to the human environment, and an environmental impact statement does not need to be prepared.

The EA and finding of no significant impact have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 21st day of January 2011.
Kevin Shea,
Acting Administrator, Animal and Plant Health Inspection Service.

[FR Doc. 2011-1780 Filed 1-26-11; 8:45 am]

BILLING CODE 3410-34-P